DEPARTMENT OF COMMERCE

International Trade Administration

[C-570-980]

Crystalline Silicon Photovoltaic Cells, Whether or Not Assembled Into Modules From the People's Republic of China: Final Results of the Expedited Second Sunset Review of the Countervailing Duty Order

AGENCY: Enforcement and Compliance, International Trade Administration, Department of Commerce.

SUMMARY: The U.S. Department of Commerce (Commerce) finds that revocation of the countervailing duty (CVD) order on crystalline silicon photovoltaic cells, whether or not assembled into modules (solar cells), from the People's Republic of China (China) would likely to lead to the continuation or recurrence of countervailable subsidies at the levels indicated in the “Final Results of the Sunset Review” section of this notice.

DATES: Applicable June 7, 2024.

FOR FURTHER INFORMATION CONTACT: Jose Rivera, AD/CVD Operations, Office VII, Enforcement and Compliance, International Trade Administration, U.S. Department of Commerce, 1401 Constitution Avenue NW, Washington, DC 20230; telephone: (202) 482-0842.

SUPPLEMENTARY INFORMATION:

Background

On December 7, 2012, Commerce published the CVD order on solar cells from China.¹ On February 1, 2024, Commerce published the Initiation Notice of the second five-year sunset review of the Order, pursuant to section 751(c) of the Tariff Act of 1930, as amended (the Act).² In accordance with 19 CFR 351.218(d)(1)(i) and (ii), on February 16, 2024, we received a timely notice of intent to participate in this sunset review from the American Alliance for Solar Manufacturing (the Alliance).³ The Alliance claimed interested party status under section 771(9)(C) of the Act as a coalition of producers of domestic like product in the United States.

¹ See Crystalline Silicon Photovoltaic Cells, Whether or Not Assembled into Modules, from the People's Republic of China: Countervailing Duty Order, 77 FR 73017 (December 7, 2012) (Order).

² See Initiation of Five-Year (Sunset) Reviews, 89 FR 6499 (February 1, 2024) (Initiation Notice).

³ See The Alliance's Letter, “Notice of Intent to Participate in Sunset Review,” dated February 16, 2024.

On March 4, 2024, Commerce received an adequate substantive response to the Initiation Notice from the Alliance within the 30-day deadline specified in 19 CFR 351.218(d)(3)(i).⁴ Commerce received no substantive responses from any other interested party, including the Government of China, with respect to the order covered by this sunset review.

⁴ See The Alliance's Letter, “Substantive Response to Notice of Initiation,” dated March 4, 2024.

On March 22, 2024, Commerce notified the U.S. International Trade Commission that it did not receive an adequate substantive response from other interested parties.⁵ As a result, Commerce conducted an expedited (120-day) sunset review of the Order, pursuant to section 751(c)(3)(B) of the Act and 19 CFR 351.218(e)(1)(ii)(B)(2) and (C)(2).

⁵ See Commerce's Letter, “Sunset Reviews for February 2024,” dated March 22, 2024.

Scope of the Order

The merchandise covered by this Order are solar cells, whether or not partially or fully assembled into other products, including, but not limited to, modules, laminates, panels and building integrated materials. Merchandise covered by the Order is currently classified in the Harmonized Tariff System of the United States (HTSUS) under subheadings 8501.71.0000, 8501.72.1000, 8501.72.2000, 8501.72.3000, 8501.72.9000, 8501.80.1000, 8501.80.2000, 8501.80.3000, 8501.80.9000, 8507.20.8010, 8507.20.8031, 8507.20.8041, 8507.20.8061, 8507.20.8091, 8541.42.0010, and 8541.43.0010. These HTSUS subheadings are provided for convenience and customs purposes; the written description of the scope of the Order is dispositive. For a complete description of the scope of the Order, see the Issues and Decision Memorandum.⁶

⁶ See Memorandum, “Issues and Decision Memorandum for the Final Results of the Expedited Second Sunset Review of the Countervailing Duty Order on Crystalline Silicon Photovoltaic Cells, Whether or Not Assembled Into Modules, from the People's Republic of China,” dated concurrently with and adopted by this notice (Issues and Decision Memorandum).

Analysis of Comments Received

All issues raised in this sunset review are addressed in the Issues and Decision Memorandum. A list of the topics discussed in the Issues and Decision Memorandum is attached as an appendix to this notice. The Issues and Decision Memorandum is a public document and is on file electronically via Enforcement and Compliance's Antidumping and Countervailing Duty Centralized Electronic Service System (ACCESS), which is available to registered users at https://access.trade.gov. In addition, a complete version of the Issues and Decision Memorandum can be accessed directly at https://access.trade.gov/public/FRNoticesListLayout.aspx.

Final Results of Sunset Review

Pursuant to sections 751(c) and 752(b) of the Act, we determine that revocation of the Order would be likely to lead to continuation or recurrence of a countervailable subsidies at the following net countervailable subsidy rates:

⁷ Wuxi Suntech Power Co., Ltd. is cross-owned with: Suntech Power Co., Ltd.; Luoyang Suntech Power Co., Ltd.; Yangzhou Rietech Renewal Energy Co., Ltd.; Zhenjiang Huantai Silicon Science & Technology Co., Ltd.; Kuttler Automation Systems Co., Ltd.; Shenzhen Suntech Power Co., Ltd.; Wuxi Sunshine Power Co., Ltd.; Wuxi University Science Park International Incubator Co., Ltd.; Yangzhou Suntech Power Co., Ltd.; and Zhenjiang Rietech New Energy Science & Technology Co., Ltd.

⁸ Changzhou Trina Solar Energy Co., Ltd. is cross-owned with Trina Solar (Changzhou) Science and Technology Co., Ltd.

Producer/exporter | Subsidy rate (percent ad valorem)
Wuxi Suntech Power Co., Ltd.⁷ | 25.56
Changzhou Trina Solar Energy Co., Ltd.⁸ | 26.75
All Others | 26.15

Disclosure

Commerce intends to disclose its calculations and analysis performed to interested parties in these final results within five days of any public announcement or, if there is no public announcement, within five days of the date of publication of this notice in accordance with 19 CFR 351.224(b).

Administrative Protective Order

This notice serves as the only reminder to parties subject to an administrative protective order (APO) of their responsibility concerning the return or destruction of proprietary information disclosed under APO in accordance with 19 CFR 351.305. Timely notification of the return or destruction of APO materials or conversion to judicial protective orders is hereby requested. Failure to comply with the regulations and terms of an APO is a violation which is subject to sanction.

Notification to Interested Parties

Commerce is issuing and publishing these final results and this notice in accordance with sections 751(c), 752(b), and 777(i)(1) of the Act and 19 CFR 351.218.

Dated: May 31, 2024.
Abdelali Elouaradia,
Deputy Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of a Countervailable Subsidy

2. Net Countervailable Subsidy Rates Likely to Prevail

3. Nature of the Subsidies

VII. Final Results of Sunset Review

VIII. Recommendation

[FR Doc. 2024-12531 Filed 6-6-24; 8:45 am]

BILLING CODE 3510-DS-P